FEDERAL COMMUNICATIONS COMMISSION

47 CFR Part 73

[MB Docket No. 09-189; Report 2929]

Petition for Reconsideration of Action of Rulemaking Proceeding

AGENCY: Federal Communications Commission.

ACTION: Petition for reconsideration.

SUMMARY: In this document, a Petition for Reconsideration (Petition) has been filed in the Commission's Rulemaking proceeding listed below by Kona Coast Radio, LLC (“Kona Coast”), seeking reconsideration of actions taken in a Report and Order in Kahuku and Kualapuu, Hawaii. In the Report and Order, the Media Bureau (the Bureau) allotted FM Channel 296C2 at Kualapuu, Hawaii, and granted the proposal of Big D Consulting, Inc. (“Big D”) to upgrade the facilities of FM Station KNAN, Nanakuli, Hawaii, from Channel 294C3 to Channel 294C2. The Bureau also dismissed Kona Coast's proposal for the allotment of FM Channel 296C3 at Kahuku, Hawaii. Kona Coast argues that the Bureau erred in giving priority to Big D's proposal, which was filed before Kona Coast's petition for rule making reached the Office of the Secretary. Kona Coast asserts that the public was given actual notice of the proposal as of the filing date of the Form 301 for Channel 296C3 at Kahuku, Hawaii. Kona Coast also argues that its alternative proposal would result in a preferential use of spectrum.

DATES: Oppositions to the Petition must be filed by May 18, 2011. Replies to an opposition must be filed May 31, 2011.

ADDRESSES: Federal Communications Commission, 445 12th Street, SW., Washington, DC 20554.

FOR FURTHER INFORMATION CONTACT: Deborah Dupont, Media Bureau, 202-418-7072.

SUPPLEMENTARY INFORMATION: On February 18, 2011, the Commission, via the Media Bureau released In the Matter of Amendment of Section 73.202(B), Table of Allotments, FM Broadcast Stations (Kahuku and Kualapuu, Hawaii), DA 11-323, Report and Order, adopted February 16, 2011; published at 76 FR 12292, March 7, 2011. This is a summary of Commission's document, Report No. 2929, released April 14, 2011. The full text of document Report No. 2929 is available for viewing and copying in Room CY-B402, 445 12th Street, SW., Washington, DC or may be purchased from the Commission's copy contractor, Best Copy and Printing, Inc. (BCPI) (1-800-378-3160). The Commission will not send a copy of document Report No. 2929 pursuant to the Congressional Review Act, 5 U.S.C. 801(a)(1)(A), because it does not have an impact on any rules of particular applicability.

Subject: In the Matter of Amendment of Section 73.202(b), Table of Allotments, FM Broadcast Stations (Kahuku and Kualapuu, Hawaii) (MB Docket No. 09-189).

Number of Petitions Filed: 1.

Federal Communications Commission.
Marlene H. Dortch,
Secretary, Federal Communications Commission.
Marlene H. Dortch,
Secretary, Office of the Secretary, Office of Managing Director.

[FR Doc. 2011-10625 Filed 5-2-11; 8:45 am]

BILLING CODE 6712-01-P